DEPARTMENT OF HEALTH AND HUMAN SERVICES

Administration for Children and Families

Statement of Organization, Functions and Delegations of Authority

Notice is hereby given that I delegate to the Director, Office of Refugee Resettlement, with authority to redelegate, the following authority vested in the Assistant Secretary for Children and Families by the Secretary under the Trafficking Victims Protection Act of 2000, Pub. L. No. 106-386, 114 Stat. 1464 (2000).

(a) Authority Delegated.

Authority to conduct certification activities under the Trafficking Victims Protection Act of 2000, Pub. L. No. 106-386, § 107(b)(1), 114 Stat. 1464, 1475 (2000). In exercising this authority, personnel in the Office of Refugee Resettlement will consult with the Attorney General.

(b) Effect on Existing Delegations.

None.

(c) This delegation shall be exercised under the Department's existing delegation of authority and policy on regulations. This delegation of authority is effective upon date of signature. In addition, I hereby affirm and ratify any actions taken by the Director, Office of Refugee Resettlement, or any other Office of Refugee Resettlement official which, in effect, involved the exercise of these authorities prior to the effective date of this delegation.

(d) Any redelegation shall be in writing and prompt notification must be provided to all affected managers, supervisors and other personnel.

Dated: April 10, 2001.
Diann Dawson,
Acting Principal Deputy Assistant Secretary.

[FR Doc. 01-9513 Filed 4-17-01; 8:45 am]

BILLING CODE 4184-01-M